DEPARTMENT OF TRANSPORTATION

Surface Transportation Board

[Docket No. FD 35603]

San Antonio Central Railroad, L.L.C.—Lease Exemption—Port Authority of San Antonio

San Antonio Central Railroad, L.L.C. (SAC), a noncarrier, has filed a verified notice of exemption pursuant to 49 CFR 1150.31 to lease and operate approximately four miles of rail line owned by the Port Authority of San Antonio (the Port), in San Antonio, Tex.

This transaction is related to a concurrently filed verified notice of exemption in Wacto Holdings, Inc.—Continuance in Control Exemption—San Antonio Central Railroad, L.L.C., Docket No. FD 35604, wherein Watco Holdings, Inc. has filed a verified notice of exemption to continue in control of SAC upon SAC becoming a Class III rail carrier.

As a result of this transaction, SAC will provide common carrier rail service over the rail lines owned by the Port in the East Kelly Railport (the Railport) ¹ and will be able to interchange traffic with both the Union Pacific Railroad Company and BNSF Railway Company. SAC states that the lease agreement between SAC and the Port will not contain any interchange commitments.

¹ According to SAC, there are no mileposts associated with the tracks in the Railport.

SAC certifies that its projected annual revenues as a result of this transaction will not result in SAC's becoming a Class II or Class I rail carrier and further certifies that its projected annual revenues will not exceed $5 million.

The transaction is expected to be consummated on or after July 1, 2012, the effective date of the exemption (30 days after the notice of exemption was filed).

If the verified notice contains false or misleading information, the exemption is void ab initio. Petitions to revoke the exemption under 49 U.S.C. 10502(d) may be filed at any time. The filing of a petition to revoke will not automatically stay the effectiveness of the exemption. Petitions for stay must be filed by June 22, 2012 (at least seven days before the exemption becomes effective).

An original and 10 copies of all pleadings, referring to Docket No. FD 35603, must be filed with the Surface Transportation Board, 395 E Street SW., Washington, DC 20423-0001. In addition, a copy of each pleading must be served on Karl Morell, Ball Janik LLP, 655 Fifteenth Street NW., Suite 225, Washington, DC 20005.

Board decisions and notices are available on our Web site at www.stb.dot.gov.

Decided: June 12, 2012.
By the Board.
Rachel D. Campbell,
Director, Office of Proceedings.
Derrick A. Gardner,
Clearance Clerk.

[FR Doc. 2012-14662 Filed 6-14-12; 8:45 am]

BILLING CODE 4915-01-P